DEPARTMENT OF TRANSPORTATION

Federal Aviation Administration

Notice of Intent To Rule on Application To Impose and Use the Revenue From a Passenger Facility Charge (PFC) at San Angelo Regional Airport/Mathis Field, San Angelo, TX

AGENCY: Federal Aviation Administration (FAA), DOT.

ACTION: Notice of intent to rule on application.

SUMMARY: The FAA proposes to rule and invites public comment on the application to impose and use the revenue from a PFC at San Angelo Regional Airport/Mathis Field under the provisions of the Aviation Safety and Capacity Expansion Act of 1990 (Title IX of the Omnibus Budget Reconciliation Act of 1990) (Pub. L. 101-508) and part 158 of the Federal Aviation Regulations (14 CFR part 158).

DATES: Comments must be received on or before March 15, 2004.

ADDRESSES: Comments on this application may be mailed or delivered in triplicate copies to the FAA at the following address: Mr. G. Thomas Wade, Federal Aviation Administration, Southwest Region, Airports Division, Planning and Programming Branch, ASW-611, Fort Worth, Texas 76193-0610.

In addition, one copy of any comments submitted to the FAA must be mailed or delivered to Mr. Craig Williams, Airport Manager, San Angelo Regional Airport/Mathis Field at the following address: 8618 Terminal Circle, Suite 101, San Angelo, Texas 76904.

Air carriers and foreign air carriers may submit copies of the written comments previously provided to the Airport under § 158.23 of part 158.

FOR FURTHER INFORMATION CONTACT: Mr. G. Thomas Wade, Federal Aviation Administration, Southwest Region, Airports Division, Planning and Programming Branch, ASW-611, 2601 Meacham Blvd., Fort Worth, Texas 76193-0610, (817) 222-5613.

The application may be reviewed in person at this same location.

SUPPLEMENTARY INFORMATION: The FAA proposes to rule and invites public comment on the application to impose and use the revenue from a PFC at San Angelo Regional Airport/Mathis Field under the provisions of the Aviation Safety and Capacity Expansion Act of 1990 (Title IX of the Omnibus Budget Reconciliation Act of 1990) (Pub. L. 101-508) and part 158 of the Federal Aviation Regulations (14 CFR part 158).

On February 4, 2004, the FAA determined that the application to impose and use the revenue from a PFC submitted by the Airport was substantially complete within the requirements of § 158.25 of Part 158. The FAA will approve or disapprove the application, in whole or in part, no later than June 2, 2004.

The following is a brief overview of the application.

Level of the proposed PFC: $4.50.

Proposed change effective date: August 1, 2004.

Proposed charge expiration date: January 1, 2006.

Total estimated PFC revenue: $335,042.

PFC application number: 04-05-C-00-SJT.

Brief description of proposed project(s):

Projects To Impose and Use PFC's

1. Acquire ARFF Vehicle and Associated Equipment

2. Rehabilitate Runways 9/27 and 3/21

3. Rehabilitate Runway and Taxiway Lighting

4. Acquire RPZ Land for Runway 21

5. Rehabilitate Taxiways

Proposed class or classes of air carriers to be exempted from collecting PFCs: Nonscheduled/On-demand Air Carriers Filing FAA Form 1800-31.

Any person may inspect the application in person at the FAA office listed above under FOR FURTHER INFORMATION CONTACT and at the FAA regional Airports office located at: Federal Aviation Administration, Southwest Region, Airports Division, Planning and Programming Branch, ASW-610, 2601 Meacham Blvd., Fort Worth, Texas 76137-4298.

In addition, any person may, upon request, inspect the application, notice and other documents germane to the application in person at San Angelo Regional Airport/Mathis Field.

Issued in Fort Worth, Texas, on February 4, 2004.
Mike Nicely,
Acting Manager, Airports Division.

[FR Doc. 04-3271 Filed 2-12-04; 8:45 am]

BILLING CODE 4910-13-M